SMALL BUSINESS ADMINISTRATION

National Small Business Development Center Advisory Board; Public Meeting

The U.S. Small Business Administration (SBA), National Small Business Development Center Advisory Board will host a public meeting via conference call on Tuesday, August 15, 2006 at 1 p.m. (EST). The purpose of this meeting is to discuss the upcoming ASBDC Conference in September, and to brief new members on their information binders and the regional information sent to them.

Anyone wishing to make an oral presentation to the Board must contact Erika Fischer, Senior Program Analyst, U.S. Small Business Administration, Office of Small Business Development Centers, 409 3rd Street, SW., Washington, DC 20416, telephone (202) 205-7045 or fax (202) 481-0681.

Thomas Dwyer,
Committee Management Officer.

[FR Doc. E6-12146 Filed 7-28-06; 8:45 am]

BILLING CODE 8025-01-P